DEPARTMENT OF ENERGY

Federal Energy Regulatory Commission

[ Project No. P-12492-001]

Ha-Best Inc.; Notice of Application Tendered for Filing With the Commission and Establishing Procedural Schedule for Licensing and Deadline for Submission of Final Amendments

July 24, 2007.

Take notice that the following hydroelectric application has been filed with the Commission and is available for public inspection.

a. Type of Application: Original Minor License.

b. Project No.: P-12492-001.

c. Date Filed: July 3, 2007.

d. Applicant: Ha-Best Inc.

e. Name of Project: Miner Shoal Waterpower Project.

f. Location: The proposed project is located on the Soque River, near the Town of Demorest, Habersham County, Georgia. The proposed project does not occupy federal lands.

g. Filed Pursuant to: Federal Power Act 16 U.S.C. 791(a)-825(r).

h. Applicant Contact: Don Ferguson, 34 West Jarrard Street, Cleveland, GA 30528; Telephone (706) 865-3999.

i. FERC Contact: Janet Hutzel, Telephone (202) 502-8675, or by e-mail at janet.hutzel@ferc.gov.

j. Cooperating agencies: We are asking Federal, state, local, and tribal agencies with jurisdiction and/or special expertise with respect to environmental issues to cooperate with us in the preparation of the environmental document. Agencies who would like to request cooperating status should follow the instructions for filing comments described in item l below. Cooperating agencies should note the Commission's policy that agencies that cooperate in the preparation of the environmental document cannot also intervene. See, 94 FERC 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 1, 2007.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. The application is not ready for environmental analysis at this time.

n. Project Description: The proposed Minor Shoal Project would consist of the following: (1) An existing 30-foot-high, 540-foot-long dam; (2) an existing reservoir with a normal water with a surface area of 265 acres and a storage capacity of 1,960 acre-feet; (3) an existing 92-foot-long, 7-foot-diameter steel penstock; (4) two existing powerhouses containing a total of three turbines with a total installed capacity of 1,400 kilowatts; and (5) appurtenant facilities. The project would have an annual generation of 4.943 megawatt-hours.

o. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item (h) above.

You may also register online at http://www.ferc.gov/esubscribenow.htm to be notified via e-mail of new filings and issuances related to this or other pending projects. For assistance, contact FERC Online Support.

p. With this notice, we are initiating consultation with the Georgia State Historic Preservation Officer, as required by § 106, National Historic Preservation Act, and the regulations of the Advisory Council on Historic Preservation, 36 CFR 800.4.

q. Procedural Schedule: At this time we do not anticipate the need for preparing a draft environmental assessment (EA). Recipients will have 30 days to provide the Commission with any written comments on the EA. All comments filed with the Commission will be considered in the Order taking final action on the license application. However, should substantive comments requiring re-analysis be received on the EA document, we would consider preparing a subsequent EA document. The application will be processed according to the following Hydro Licensing Schedule. Revisions to the schedule will be made as appropriate.

Milestone | Target date
Issue Acceptance or Deficiency Letter | October 2007.
Request Additional Information | October 2007.
Issue Scoping Document 1 for Comments | February 2008.
Issue Scoping Document 2 (if necessary) | April 2008.
Notice that application is ready for environmental analysis | April 2008.
Notice of the Availability of the EA | December 2008.

r. Final amendments to the application must be filed with the Commission no later than 30 days from the issuance date of the notice ready for environmental analysis.

Kimberly D. Bose,
Secretary.

[FR Doc. E7-14759 Filed 7-30-07; 8:45 am]

BILLING CODE 6717-01-P